OFFICE OF PERSONNEL MANAGEMENT

5 CFR Part 310

RIN 3206-AK03

Employment of Relatives

AGENCY: Office of Personnel Management.

ACTION: Proposed rule.

SUMMARY: The Office of Personnel Management (OPM) is proposing a plain language rewrite of its regulations regarding the employment of relatives as part of a broader review of OPM's regulations. The purpose of the revision is to make the regulations more readable.

DATES: Comments must be received on or before November 21, 2003.

ADDRESSES: Send, deliver or fax comments to Ms. Ellen E. Tunstall, Deputy Associate Director for Talent and Capacity Policy, U.S. Office of Personnel Management, 1900 E Street, NW., Room 6551, Washington, DC 20415-9700; e-mail: employ@opm.gov; FAX: (202) 606-2329.

FOR FURTHER INFORMATION CONTACT: Mr. Raleigh M. Neville by telephone at (202) 606-0960; by TTY at (202) 418-3134; by fax at (202) 606-0390; or by e-mail at rmnevill@opm.gov.

SUPPLEMENTARY INFORMATION: OPM is reviewing and revising its regulations to make them more readable. In the process, we are making sure that our regulations do not merely repeat statutory provisions. We are revising Part 310 to eliminate subpart A because it merely restates the provisions of 5 U.S.C. 3110 which outline the legal restrictions on the employment of relatives.

E.O. 12866, Regulatory Review

This rule has been reviewed by the Office of Management and Budget in accordance with E.O. 12866.

Regulatory Flexibility Act

I certify that these regulations would not have a significant economic impact on a substantial number of small entities because it affects only Federal employees.

List of Subjects in 5 CFR Part 310

Government employees.

U.S. Office of Personnel Management.
Kay Coles James,
Director.

Accordingly, OPM proposes to revise 5 CFR part 310 to read as follows:

PART 310—EMPLOYMENT OF RELATIVES

Sec.
310.101 Are there exceptions to the legal restrictions on the employment of relatives?

Authority: 5 U.S.C. 3110.

Subpart A—Employment of Relatives

§ 310.101 Are there exceptions to the legal restrictions on the employment of relatives?

Section 3110 of title 5, United States Code, sets forth the legal restrictions on the employment of relatives. Subsection (d) of that section authorizes the Office of Personnel Management to prescribe regulations authorizing the temporary employment of relatives, in certain conditions, notwithstanding the restrictions. This regulation sets forth exceptions to the restrictions. When necessary to meet urgent needs resulting from an emergency posing an immediate threat to life or property, or a national emergency as defined in § 230.402(a)(1) of this title, a public official may employ relatives to meet those needs without regard to the restrictions on the employment of relatives in 5 U.S.C. 3110. Such appointments are temporary and may not exceed 1 month, but the agency may extend such an appointment for one additional month if the emergency need still exists at the time of the extension.

[FR Doc. 03-24082 Filed 9-18-03; 12:01 pm]

BILLING CODE 6325-38-U